FEDERAL COMMUNICATIONS COMMISSION

47 CFR Parts 43 and 63

[IB Docket No. 00-231, FCC 02-154]

2000 Biennial Regulatory Review: International Telecommunications Service

AGENCY: Federal Communications Commission.

ACTION: Final rules; announcement of effective date.

SUMMARY: This document announces the effective date of the rule published on July 9, 2002. Those rules amended the Commission's rules regarding the provision of international telecommunications service. The Commission also clarified the intent of certain rules and eliminated certain rules that were no longer necessary. The Commission's action was part of the agency's 2000 biennial regulatory review.

DATES: Sections 43.61, 63.10(d), 63.18(e)(3), 63.19(a) and (b), 63.20(a), and 63.24(e) and (f) are effective September 4, 2002.

FOR FURTHER INFORMATION CONTACT: Peggy Reitzel, Policy and Facilities Branch, Telecommunications Division, International Bureau, (202) 418-1460.

SUPPLEMENTARY INFORMATION: On June 10, 2002, the Commission released a report and order adopting a number of amendments to Parts 43 and 63 of the Commission's rules, as well as changes to Commission policy (FCC 02-154), a summary of which was published in the Federal Register. See 67 FR 45387 (July 9, 2002). We stated that the rules were effective on August 8, 2002, except for those sections containing new information collection requirements, which required approval by the Office of Management and Budget (OMB). The information collection requirements were approved by OMB on July 30, 2002. See OMB No. 3060-1019. This publication satisfies our statement that the Commission would publish a document announcing the effective date of the rules.

List of Subjects in 47 CFR Part 43 and 63

Communications common carriers, Reporting and recordkeeping requirements.

Federal Communications Commission.
Marlene H. Dortch,
Secretary.

[FR Doc. 02-22510 Filed 9-3-02; 8:45 am]

BILLING CODE 6712-01-P